DEPARTMENT OF TRANSPORTATION

Federal Aviation Administration

Agency Information Collection Activity Under OMB Review, Request for Comments; Approval of a New Information Collection Activity, International Survey of Human Factors in Maintenance Organizations

AGENCY: Federal Aviation Administration (FAA), DOT.

ACTION: Notice and request for comments.

SUMMARY: Organizations that are approved to conduct aircraft maintenance are certified and regulated under CFR 14, Title 49, FAR part 145, or international equivalent (Henceforth referred to as part 145). The information collected will be used to assess what companies have done, are doing or are planning to do regarding the human factors elements of part 145. A partial list of subjects includes training, error management, fatigue management, and additional human factors metrics. Additionally, respondents will be asked to describe their organization's support of their human factors program. This will involve collecting data from companies world-wide. The FAA invites public comments about our intention to request the Office of Management and Budget's (OMB) approval of this new information collection. A notice for public comment was published in the Federal Register on 7/6/2005, vol. 70, #128, page 39000.

DATES: Please submit comments by February 23, 2006.

FOR FURTHER INFORMATION CONTACT: Judy Street on (202) 267-9895.

SUPPLEMENTARY INFORMATION:

Federal Aviation Administration (FAA)

Title: International Survey of Human Factors in Maintenance Organizations.

Type of Request:Approval of a new collection.

OMB Control Number: 2120-xxxx.

Form(s): Human Factors Survey Form.

Affected Public: A total of 1,080 respondents.

Frequency: Conducted on an as-needed basis.

Estimated Average Burden Per Response: Approximately 30 minutes.

Estimated Annual Burden Hours: An estimated 540 hours annually.

Abstract: Part 145 organizations will receive an invitation via e-mail to complete a web-based survey. The information collected will be used to assess what companies have done, are doing or are planning to do regarding the human factors elements of part 145. A partial list of subjects includes training, error management, fatigue management, and additional human factors metrics. Additionally, respondents will be asked to describe their organization's support of their human factors program. This will involve collecting data from companies world-wide.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on January 13, 2006.
Judith D. Street,
FAA Information Collection Clearance Officer, Information Systems and Technology Services Staff, ABA-20.

[FR Doc. 06-596 Filed 1-23-06; 8:45 am]

BILLING CODE 4910-13-M